ENVIRONMENTAL PROTECTION AGENCY

[FRL-8218-7]

State Innovation Grant Program, Preliminary Notice on the Development of a Solicitation for Proposals for 2007 Awards

AGENCY: Environmental Protection Agency (EPA).

ACTION: Notice.

SUMMARY: The U. S. Environmental Protection Agency, National Center for Environmental Innovation (NCEI) is giving preliminary notice of its intention to solicit proposals for a 2007 grant program to support innovation by state environmental agencies—the “State Innovation Grant Program.” In addition, EPA is asking each State Environmental Regulatory Agency to designate a point of contact at the management level (in addition to the Commissioner or Cabinet Secretary level) who will be the point of contact for further communication about the upcoming solicitation. If your point of contact from previous State Innovation Grant solicitations is to be your contact for this year's competition, there is no need to send that information again, as all previously designated points of contact will remain on our notification list for this year's competition. EPA anticipates publication of a Solicitation Announcement of Federal Funding Opportunity on the Federal government's grants opportunities Web site (http://www.grants.gov) to announce the availability of the next solicitation approximately four weeks after publication of this announcement.

DATES: State Environmental Regulatory agencies will have 30 days from the date of this pre-announcement notice in the Federal Register publication until October 12, 2006 to respond with point of contact information for the person within the State Environmental Regulatory Agency (in addition to Commissioner or Cabinet Secretaries) who will be designated to receive future notices about the State Innovation Grants. We will automatically transmit notice of availability of the solicitation to people in State agencies identified for previous solicitations.

ADDRESSES: Information should be sent to: State Innovation Grant Program; National Center for Environmental Innovation; Office of Policy, Economics, and Innovation; U.S. Environmental Protection Agency (1807T), 1200 Pennsylvania Avenue, NW., Washington DC 20460. Responses may also be sent by fax to (202) 566-2220, addressed to the “State Innovation Grant Program,” or by e-mail to: Innovation_State_Grants@EPA.gov. We encourage e-mail responses. If you have questions about responding to this notice, please contact EPA at this e-mail address or fax number, or you may call Sherri Walker at (202) 566-2186. For point of contact information, please provide: name, title, department and agency, street or post office address, city, state, zip code, telephone, fax number, and e-mail address. EPA will acknowledge all responses it receives to this notice.

SUPPLEMENTARY INFORMATION:

Background

In April 2002, EPA issued its plan for future innovation efforts, published as Innovating for Better Environmental Results: A Strategy to Guide the Next Generation of Innovation at EPA (EPA 100-R-02-002; http://www.epa.gov/innovation/strategy/). The Agency's Innovation Strategy presents a framework for environmental innovation consisting of four major elements:

(1) Strengthen EPA's innovation partnership with States;

(2) Focus on priority environmental issues;

(3) Diversify environmental protection tools and approaches;

(4) Foster more “innovation-friendly” organizational culture and systems.

This assistance program strengthens EPA's partnership with the States by supporting innovation compatible with the Innovation Strategy. EPA would like to help States build on previous experience and undertake strategic innovation projects that promote larger-scale models for “next generation” environmental protection and promise better environmental results. EPA is interested in funding projects that go beyond a single facility experiment to promote change that is “systems-oriented” and provides better results from a program, process, or sector-wide innovation. EPA is particularly interested in innovation that promotes integrated (cross-media) environmental management with high potential for transfer to other States.

Since 2002, EPA has sponsored four State Innovation Grant Program competitions that asked for State project pre-proposals that support innovation generally related to environmental permitting programs. This has included alternatives to permitting and the establishment of incentives to go beyond compliance with permit requirements. To date, projects have clustered primarily around three target areas: Environmental Results Programs (ERP), Environmental Management Systems (EMS) , and the National Environmental Performance Track (PT) Program and similar state performance-based environmental leadership programs. Twenty-nine awards to States have been made from the four prior competitions. These projects amount to approximately $5 million in assistance to States. Among the grant projects, including those with pending awards: 14 are for development of Environmental Results Programs, 8 relate to Environmental Management Systems and permitting (one project a hybrid of EMS and ERP), 5 create or enhance Performance-Based Environmental Leadership programs, 2 are for Watershed-based permitting, and 1 was for permit process streamlining through innovative information technology applications. For more information on last year's solicitation, the proposals received, and the award decisions, please see the Web site at: http://www.epa.gov/innovation/stategrants.

Proposed General Topic Areas for Solicitation

To increase the likelihood of strategic impact with what we anticipate to be limited funds, EPA proposes to continue with the general theme of “innovation in permitting,” and additionally to continue with the focus on the three topic areas similar to the last competition: (1) Projects that support the development of state Environmental Results Programs (ERP); (2) projects which involve the application of Environmental Management Systems (EMS) including those that explore the relationship of EMS to permitting or otherwise promote the use of EMS to improve environmental performance beyond permit requirements (see EPA's Strategy for Determining the Role of EMS in Regulatory Programs at http://www.epa.gov/ems or http://www.epa.gov/ems/docs/EMS_and_the_Reg_Structure_41204Fpdf); (3) projects that support state performance-based environmental leadership programs or state support for implementation of the National Environmental Performance Track Program, particularly including the development and implementation of incentives. EPA's focus on a small number of topics within this general subject area effectively concentrates the limited resources available for greater strategic impact. Project selections and awards will be subject to funding availability. In addition, EPA may contemplate a very limited number of projects otherwise related to the general theme of innovation in permitting, in particular as they may address EPA Regional and State environmental permitting priorities.

EPA encourages communication from States about potential thematic areas for the future. Please note that these grants will not be applied to the development or demonstration of new environmental technologies, nor will NCEI fund projects that propose development or upgrading of information technology systems for anything other than a very minor component of the project. Projects will be much less likely to be funded through the State Innovation Grant Program if agency resources pertinent to the topic are already available through another EPA program.

Competition Limited to the State Environmental Regulatory Agency

The competition will be limited to the principal Environmental Regulatory Agency within each State, although these agencies are encouraged to partner with other agencies within the State that have environmental mandates (e.g., energy, agriculture, natural management, transportation, public health). EPA will accept only one proposal from an individual State and it must be submitted by the principal Environmental Regulatory Agency from that State. States are also encouraged to partner with other States and Tribes to address cross-boundary issues, to encourage collaborative environmental partnering within industrial sectors or in certain topical areas (e.g., agriculture), and to create networks for peer-mentoring. A multi-state or State-Tribal proposal will be accepted in addition to an individual State proposal, but a State may appear in no more than one multi-State or State-Tribal proposal in addition to its individual proposal. EPA regrets that because of the limitation in available funding it is not yet able to open this competition to Native American Tribal environmental agencies but we strongly encourage Tribal agencies to join with adjacent States in project proposals.

Request for Designation of a Primary Point of Contact

EPA asks that each State Environmental Regulatory Agency designate a manager as a primary point-of-contact who we will add to the EPA notification list for further announcements about the State Innovation Grant Program. If your point of contact from previous State Innovation Grant solicitations is to be your contact for this year's competition, there is no need to send that information again, as all previously designated points of contact will remain on our notification list for this year's competition. We are asking that any new name be submitted with the approval of the highest levels of management within an Agency (Commissioner, Secretary, or their deputies) within 30 days after publication of this notice in the Federal Register. Please submit this information to EPA by mail, fax, or e-mail prior to October 12, 2006 in the following manner.

By mail to: State Innovation Grant Program, National Center for Environmental Innovation, U.S. Environmental Protection Agency (1807T), 1200 Pennsylvania Avenue, NW., Washington, DC 20460.

By fax to: State Innovation Grant Program, (202) 566-2220.

By e-mail to: Innovation_State_Grants@EPA.gov.

We encourage e-mail responses. If you have questions about responding to this notice, please contact EPA at this e-mail address of fax number, or you may call Sherri Walker at (202) 566-2186. For point-of-contact information, please provide: name, title, department and agency, mailing address (street or P.O. Box), city, State, zip code, telephone, fax number, and e-mail address. EPA will acknowledge all responses it receives to this notice.

Opportunity for Dialogue

Between now and the initiation of the competition with the release of the solicitation, States are encouraged to discuss potential projects with their EPA Regional contact to ascertain whether the scope of a potential project is suitable for funding under this program. Responses to questions that come to us during the period between this pre-announcement and the release of the solicitation along with helpful resource materials will be posted on the State Innovation Grant Web site at http://www.epa.gov/innovation/stategrants. States are also invited to communicate with NCEI about ideas for future competition themes by contacting the EPA Headquarters contact listed below. The contacts for the EPA Regions and the EPA HQ National Center for Environmental Innovation are as follows:

Anne Leiby, U.S. EPA Region 1, 1 Congress Street, Suite 1100, Boston, MA 02114-2023, (617) 918-1076, leiby.anne@epa.gov, States: CT, MA, ME, NH, RI, VT | Grace Smith, U.S. EPA Region 2, 290 Broadway, 26th Floor, New York, NY 10007-1866, (212) 637-3589, smith.grace@epa.gov, States & Territories: NJ, NY, PR, VI.
Nicholas DiNardo, U.S. EPA Region 3, 1650 Arch Street (3EA40), Philadelphia, PA 19103, (215) 814-3365, dinardo.nicholas@epa.gov, States: DC, DE, MD, PA, VA, WV | Bonita Johnson, U.S. EPA Region 4, 61 Forsyth Street, SW., Atlanta, GA 30303, (404) 562-9388, johnson.bonita@epa.gov, States: AL, FL, GA, KY, MS, NC, SC, TN.
Marilou Martin, U.S. EPA Region 5, 77 West Jackson Boulevard, Chicago, IL 60604-3507, (312) 353-9660, martin.marilou@epa.gov, States: IL, IN, MI, MN, OH, WI | Craig Weeks, U.S. EPA Region 6, Fountain Place, Suite 1200, 1445 Ross Avenue, Dallas, TX 75202-2733, (214) 665-7505, weeks.craig@epa.gov, States: AR, LA, NM, OK, TX.
Chrissy Wolfersberger, U.S. EPA Region 7, 901 North 5th Street, Kansas City, KS 66101, (913) 551-7854, wolfersberger.chris@epa.gov, States: IA, KS, MO, NE | Whitney Trulove-Cranor, U.S. EPA Region 8, 999 18th Street, Suite 300, Denver, CO 80202-2466, (303) 312-6099, trulove-cranor.whitney@epa.gov, States: CO, MT, ND, SD, UT, WY.
Loretta Barsamian, U.S. EPA Region 9, 75 Hawthorne Street (SPE-1), San Francisco, CA 94105, (415) 947-4268, barsamian.loretta@epa.gov, States and Territories: AS, AZ, CA, GU, HI, NV | Bill Glasser, U.S. EPA Region 10, 1200 Sixth Avenue (ENF-T), Seattle, WA 98101, (206) 553-7215, glasser.william@epa.gov, States: AK, ID, OR, WA.

Headquarters Office: Sherri Walker, U.S. EPA (MC 1807T), Office of the Administrator, National Center for Environmental Innovation, State Innovation Grants Program, 1200 Pennsylvania Avenue, NW., Washington, DC 20460, (202) 566-2186, (202) 566-2220 fax.

For courier delivery only: Sherri Walker, U.S. EPA, EPA West Building, Room 4214D, 1301 Constitution Avenue, NW., Washington, DC 20005.

Dated: September 6, 2006.
Elizabeth A. Shaw,
Director, Office of Environmental Policy Innovation.

[FR Doc. E6-15082 Filed 9-11-06; 8:45 am]

BILLING CODE 6560-50-P